ENVIRONMENTAL PROTECTION AGENCY

[ER-FRL-6679-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements(EISs) was published in FR dated April 7, 2006 (71 FR 17845).

Draft EISs

EIS No. 20060086, ERP No. D-BLM-J01080-WY, Pit 14 Coal Lease-by-Application Project, Black Butte Coal Mine, Surface Mining Operations, Federal Coal Lease Application WYW160394, Sweetwater County, WY.

Summary: EPA expressed environmental concerns about increased fugitive dust emissions, and suggested a mitigation strategy of moving the coal hopper, conveyor and coal loading area closer to the proposed project area. Also, EPA requested that the final EIS discuss the range of mercury concentrations found in Black Butte coal and compare this concentration with other coal mined in Wyoming and the United States. Rating EC2.

EIS No. 20060273, ERP No. D-RUS-J03019-MT, Highwood Generating Station, 250-megawatt Coal Fired Power Plant and 6MW of Wind Generation at a Site near Great Falls, Construction and Operation, Licenses Permit, U.S. Army COE Section 10 Permit, Cascade County, MT.

Summary: EPA expressed environmental concerns about visibility impairment in Class 1 Wilderness Areas, impacts to wetlands, and aquifers, and recommended consideration of innovative coal combustion power generation technologies. Rating EC2.

EIS No. 20060287, ERP No. D-AFS-J65467-MT, Little Belt-Castle-North Half Crazy Mountains Travel Management Plan, To Change the Management of Motorized and Non-motorized Travel on the Road, Trails, and Areas within, Belt Creek, Judith,Musselshell, and White Sulphur Springs Ranger Districts, Lewis and Clark National Forest, Cascade, Judith Basin, Meagher, Wheatland, Sweetgrass and Park Counties, MT.

Summary: EPA expressed environmental concerns about potential adverse impacts to water quality, fisheries, and wildlife from roads and motorized uses, and suggested that the preferred alternative include greater commitment of resources to road/trail maintenance to reduce risks to water quality and fisheries. Rating EC2.

EIS No. 20060296, ERP No. D-AFS-K65315-CA, South Yuba Canal Maintenance Project, Hazardous Trees Removal, Implementation, Tahoe National Forest, Nevada County, CA.

Summary: EPA expressed environmental concerns about potential impacts to air quality, water quality and supply, and requested additional information regarding these matters such as erosion, sedimentation, mitigation and monitoring. Rating EC2.

EIS No. 20060308, ERP No. D-FTA-G40191-TX, Southeast Corridor Project, Proposed Fixed-Guideway Transit System, Funding, Metropolitan Transit Authority (METRO) of Harris County, Houston, Harris County, TX.

Summary: EPA does not object to the proposed action. Rating LO.

EIS No. 20060309, ERP No. D-NOA-L91027-00, Pacific Coast Groundfish Fishery Management Plan, Proposed Acceptable Biological Catch and Optimum Yield Specifications and Management Measures for the 2007-2008 Pacific Coast Groundfish Fishery and Amendment 16-4 Rebuilding Plans for Seven Depleted Pacific Coast Groundfish Species, WA, OR and CA.

Summary: EPA does not object to the proposed actions. Rating LO.

EIS No. 20060312, ERP No. D-AFS-K65316-CA, SPI Road Project, Construction of an Access Road Across National Forest Land, Special Use Permit,Six Rivers National Forest, Lower Trinity Ranger District, Trinity County, CA.

Summary: EPA expressed environmental concerns about impacts to air quality, water quality, fish and wildlife, and recommended selection of Alternative 4 Helicopter Access, if it is practicable. Rating EC2.

EIS No. 20060229, ERP No. DR-FHW-G40180-TX, Grand Parkway (State Highway 99) Updated Information, Segment F-2 from SH 249 to IH 45, Right-of-Way Permit and U.S. Army COE Section 404 Permit, Harris County, TX.

Summary: EPA does not object to the proposed project. Rating LO.

EIS No. 20060290, ERP No. DS-NRC-D03004-VA, Early Site Permit (ESP) at the North Anna Power Station ESP Site (TAC No. MC1128), New and Updated Information, Construction and Operation, NUREG-1811, Louisa County, VA.

Summary: EPA expressed environmental concerns about impacts on the water resources, the lack of information on wetland and stream impacts, and the affects on the downstream communities. Rating EC2.

Final EISs

EIS No. 20060097, ERP No. F-AFS-J67932-CO, Dry Fork Federal Coal Lease-by-Application (COC-67232), Leasing Additional Federal Coal Lands for Underground Coal Resource, Special-Use-Permits and U.S. Army COE Section 404 Permit, Grand Mesa, Uncompahgre and Gunnison National Forests, Gunnison County, CO.

Summary: No formal comment letter was sent to the preparing agency.

EIS No. 20060267, ERP No. F-BLM-K65290-CA, Ukiah Resource Management Plan, Implementation, Several Counties, CA.

Summary: EPA does not object to the selected actions, and believes that the management actions presented in the Resource Management Plan will minimize human exposure to naturally occurring asbestos (NOA) within the jurisdiction of the Ukiah Field Office.

EIS No. 20060320, ERP No. F-NRC-F06026-IL, Early Site Permit (ESP) at the Exelon ESP Site, Application for ESP on One Additional Nuclear Unit, within the Clinton Power Station (CPS), NUREG-1815, DeWitt County, IL.

Summary: EPA continues to express concerns about the adequacy and clarity of radiological risk information, the level of wetland information provided, and project impacts on Clinton Lake.

EIS No. 20060329, ERP No. F-NRS-H34030-MO, East Locust Creek Watershed Revised Plan, Installation of Multiple-Purpose Reservoir, Flood Prevention and Watershed Protection, Sullivan and Putnam Counties, MO.

Summary: EPA's previous concerns have been resolved; therefore, EPA does not object to the proposed action.

EIS No. 20060331, ERP No. F-FRC-L05232-WA, Rocky Reach Hydroelectric Project, (FERC/DEIS-0184F), Application for a New License for the Existing 865.76 Megawatt Facility, Public Utility District No. 1 (PUD), Columbia River, Chelan County, WA.

Summary: No formal comment letter was sent to the preparing agency.

EIS No. 20060336, ERP No. F-NPS-K61160-CA, Non-Native Deer Management Plan of Axis Deer (Axis axis) and Fallow Deer (Dama dama), Implementation, Point Reyes National Seashore (PRNS) and Golden Gate National Recreation Area, Marin County, CA.

Summary: EPA does not object to the proposed project.

EIS No. 20060339, ERP No. F-FRA-J53007-00, ADOPTION—Powder River Basin Expansion Project, Construction of New Rail Facilities, Finance Docket No. 33407 Dakota, Minnesota and Eastern Railroad, SD, WY and MN.

Summary: No formal comment letter was sent on this adopted EIS.

EIS No. 20060353, ERP No. F-NRS-J36054-UT, Coal Creek Flood Control and Parkway Project, Proposed Channel Improvements, Two Irrigation Division Structures on Coal Creek (the Main Street Diversion and the Woodbury Diversion), Cedar

City, Iron County, UT.

Summary: No formal comment letter was sent to the preparing agency.

EIS No. 20060334, ERP No. FS-UAF-G11038-00, Realistic Bomber Training Initiative, Addresses Impacts of Wake Vortices on Surface Structures,Dyess Air Force Base, TX and Barksdale Air Force Base, LA.

Summary: No formal comment letter was sent to the preparing agency.

Dated: September 19, 2006.
Robert W. Hargrove,
Director, NEPA Compliance Division, Office of Federal Activities.

[FR Doc. 06-8051 Filed 9-21-06; 8:45 am]

BILLING CODE 6560-50-P